SOCIAL SECURITY ADMINISTRATION

Statement of Organization, Functions and Delegations of Authority

This statement amends Part S of the Statement of the Organization, Functions and Delegations of Authority which covers the Social Security Administration (SSA). Chapter S2 covers the Deputy Commissioner, Operations (DCO). Notice is given that subchapter S2S, the Office of Electronic Services (OES) is being established under DCO. The new material and changes are as follows:

Section S2.00 The Office of the Deputy Commissioner, Operations—(Mission)

Insert the following as the 6th sentence: It oversees the coordination and implementation of SSA's policies for the electronic delivery of Agency services to the public.

Section S2.10 The Office of the Deputy Commissioner, Operations—(Organization)

Delete: Paragraph C.1. in its entirety.

Establish: I. The Office of Electronic Services (OES) (S2S).

Section S2.20 The Office of the Deputy Commissioner, Operations—(Functions)

Delete: Paragraph C.1. in its entirety.

Add: I. The Office of Electronic Services (OES) (S2S)

The Office of Electronic Services is the lead for SSA's development and implementation of electronic services. Under the direction of the Agency Chief Information Officer, the organization also works with other federal agencies on interagency electronic service delivery initiatives.

Establish Subchapter: Subchapter S2S, Office of Electronic Services

S2S.00 Mission

S2S.10 Organization

S2S.20 Functions

Section S2S.00 The Office of Electronic Services—(Mission)

The Office of Electronic Services is the lead for SSA's development and implementation of electronic services. This includes coordinating the overall Agency requirements and fostering a collaborative framework among various SSA components involved with electronic service delivery (ESD). Under the direction of the Agency Chief Information Officer (CIO), the organization also works with other federal agencies on interagency ESD initiatives.

Section S2S.10 The Office of Electronic Services—(Organization)

The Office of Electronic Services, under the leadership of the Associate Commissioner for Electronic Services, includes:

A. The Associate Commissioner for Electronic Services (S2S).

B. The Deputy Associate Commissioner for Electronic Services (S2S).

C. The Immediate Office of the Associate Commissioner for Electronic Services (S2S).

D. The Center for Planning and Program Management (S2SA).

E. The Center for Internet Customer Service (S2SB).

F. The Center for Business Application Technologies (S2SC).

Section S2S.20 The Office of Electronic Services—(Functions)

A. The Associate Commissioner for Electronic Services (S2S) is directly responsible to the Deputy Commissioner for Operations for carrying out OES' mission and providing managerial direction to OES.

B. The Deputy Associate Commissioner for Electronic Services (S2S) assists the Associate Commissioner in carrying out his/her responsibilities and performs other duties as the Associate Commissioner may prescribe.

C. The Immediate Office of the Associate Commissioner for Electronic Services (S2S) provides the Associate Commissioner with staff assistance on the full range of his/her responsibilities.

D. The Center for Planning and Program Management (S2SA).

1. Develops and directs the business case, analysis and evaluation of electronic service delivery initiatives.

2. Provides overall program management to the planning, development, and implementation of the Agency's electronic service delivery initiatives.

3. Implements legislative, executive, and Agency directives for electronic service delivery.

4. Identifies policies that can be changed to improve SSA's service to the public.

E. The Center for Internet Customer Service (S2SB).

1. Facilitates the infrastructure to support the implementation of electronic services including management of SSA's primary Agency-level public information web site and associated applications.

2. Plans, develops, implements and analyzes the customer service needed to support the Agency's Internet business processes.

3. Plans and facilitates development of customer-centric Internet services based on research of customer demographics and preferences and customer input.

4. Works under the direction of the Agency CIO in developing the interagency partnerships and common business processes needed for electronic government.

F. The Center for Business Application Technologies (S2SC).

1. Plans, develops and implements the Public Key Infrastructure (PKI) needed to support the Agency's Internet business processes.

2. Identifies emerging technologies that can be used to improve SSA's service to the public.

3. Fosters partnerships with public and private entities to solve global electronic service delivery issues; develops a global electronic service delivery infrastructure supportive of SSA's service delivery goals.

4. Represents SSA on boards and committees charged with exploring the use of technology in providing service to the public.

Dated: May 18, 2001.
Larry G. Massanari,
Acting Commissioner of Social Security.

[FR Doc. 01-13565 Filed 5-30-01; 8:45 am]

BILLING CODE 4191-02-P